DEPARTMENT OF AGRICULTURE

Farm Service Agency

Request for Extension of a Currently Approved Information Collection

AGENCY: Farm Service Agency, USDA.

ACTION: Notice and request for comments.

SUMMARY: In accordance with the Paperwork Reduction Act of 1995, this notice announces the intent of the Farm Service Agency (FSA) to request an extension of a currently approved information collection for a form used in support of the FSA Farm Loan Programs (FLP). This renewal does not involve any revisions to the program rules.

DATES: Comments on this notice must be received on or before November 9, 2001, to be assured consideration.

FOR FURTHER INFORMATION CONTACT: Michael Cumpton, USDA, Farm Service Agency, Loan Servicing and Property Management Division, 1400 Independence Avenue, SW, STOP 0523, Washington, DC 20250-0523; Telephone (202) 690-4014; Electronic mail: mike_cumpton@wdc.usda.gov.

SUPPLEMENTARY INFORMATION:

Title: Form FSA 1962-1, Agreement for the Use of Proceeds/Release of Chattel Security.

OMB Control Number: 0560-0171.

Expiration Date of Approval: September 30, 2001.

Type of Request: Extension of a Currently Approved Information Collection.

Abstract: This form is needed to implement section 335(f) of the Consolidated Farm and Rural Development Act (7 U.S.C 1985(f)), which requires release of normal income security to pay essential household and farm operating expenses of the borrower, until the Agency accelerates the loan.

Estimate of Burden: Public reporting burden for this collection of information is estimated to average 20 minutes per response.

Respondents: Individuals or households, businesses or other for profit and farms.

Estimated Number of Respondents: 55,000.

Estimated Number or Responses Per Respondent: 1.

Estimated Total Annual Burden On Respondents: 18,150.

Comments are invited on: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology. These comments should be sent to the Desk Officer for Agriculture, Office of Information and Regulatory Affairs, Office of Management and Budget, Washington, DC 20503 and to Michael Cumpton, Senior Loan Officer, USDA, FSA, Farm Loan Programs, Loan Servicing Division, 1400 Independence Avenue, SW, STOP 0523, Washington, DC 20250-0523.

Comments will be summarized and included in the request for OMB approval of the information collection. All comments will also become a matter of public record.

Signed in Washington, DC, on August 31, 2001.
James R. Little,
Acting Administrator, Farm Service Agency.

[FR Doc. 01-22580 Filed 9-7-01; 8:45 am]

BILLING CODE 3410-05-P